DEPARTMENT OF TRANSPORTATION

Surface Transportation Board

[STB Finance Docket No. 33992]

Iowa Railroad Historical Society d/b/a Boone & Scenic Railroad—Acquisition and Operation Exemption—Union Pacific Railroad Company

Iowa Railroad Historical Society (IRHS) ¹ d/b/a Boone & Scenic Railroad (BSVY), a noncarrier, has filed a verified notice of exemption under 49 CFR 1150.31² to acquire the right-of-way and operating assets of the Union Pacific Railroad Company (UP) from milepost 42.57 to milepost 44.23, in Boone County, Iowa, a distance of approximately 1.66 route miles.³

¹ IRHS is an operating, nonprofit railroad museum. It currently operates over 11 miles of track carrying approximately 45,000 passengers per year.

² The notice appears to invoke the class exemption from 49 U.S.C. 10901 at 49 CFR 1150.31. While the notice cites 49 U.S.C. 10902 rather than 49 U.S.C. 10901, all references in the notice suggest that the transaction is proposed for exemption from the requirements of 49 U.S.C. 10901.

³ The acquisition will take place by donation contract and a donative quitclaim deed. The right-of-way being acquired by IRHS is the only remaining right-of-way from the old Fort Dodge, Des Moines and Southern Railway (FDDMS). Consummation of this transaction will enable IRHS to complete the acquisition of the remaining FDDMS line.

According to the verified notice of exemption, BSVY will operate the rail line as a “handling carrier,” with UP performing all revenue accounting of its line hauls and paying BSVY a division from the revenues collected. The transaction is scheduled to be consummated on or after January 31, 2001.⁴

⁴ As part of this transaction, BSVY indicates that it is also requesting to assume the common carrier obligation on the track it now owns between milepost 41.0 and 42.57.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33992, must be filed with the Surface Transportation Board, Office of the Secretary, Case Control Unit, 1925 K Street, NW., Washington, DC 20423-0001. In addition, a copy of each pleading must be served on Fenner Stevenson, P.O. Box 603, Boone, IA 50036.

Board decisions and notices are available on our website at “WWW.STB.DOT.GOV.”

Decided: January 22, 2001.
By the Board, David M. Konschnik, Director, Office of Proceedings.
Vernon A. Williams,
Secretary.

[FR Doc. 01-2485 Filed 1-29-01; 8:45 am]

BILLING CODE 4915-00-P